DEPARTMENT OF HEALTH AND HUMAN SERVICES

National Institutes of Health

National Institute of Allergy and Infectious Diseases; Amended Notice of Meeting

Notice is hereby given of a change in the meeting of the National Institute of Allergy and Infectious Diseases Special Emphasis Panel, February 8, 2001, 8:00 am to February 9, 2001, 5:00 pm, Holiday Inn Downtown DC, 1155 14th Street, NW, Washington, DC 20005 which was published in the Federal Register on December 19, 2000, 65 FR 79377.

The meeting will be held at the Bethesda Holiday Inn, Bethesda, Maryland. The meeting is closed to the public.

Dated: January 5, 2001.
LaVerne Y. Stringfield,
Director, Office of Federal Advisory Committee Policy.

[FR Doc. 01-965 Filed 1-11-01; 8:45 am]

BILLING CODE 4140-01-M